FEDERAL COMMUNICATIONS COMMISSION

[DA 18-546]

Disability Advisory Committee; Announcement of Next Meeting

AGENCY: Federal Communications Commission.

ACTION: Notice.

SUMMARY: In this document, the Commission announces and provides an agenda for the next meeting of the Disability Advisory Committee (DAC or Committee).

DATES: Thursday, June 14, 2018. The meeting will come to order at 9:00 a.m.

ADDRESSES: Federal Communications Commission, 445 12th Street SW, Washington, DC 20554, in the Commission Meeting Room.

FOR FURTHER INFORMATION CONTACT: Will Schell, Designated Federal Officer (DFO), at 202-418-0767 (voice) or DAC@fcc.gov.

SUPPLEMENTARY INFORMATION: This meeting is open to members of the general public. The meeting will be webcast with open captioning at: www.fcc.gov/live. In addition, a reserved amount of time will be available on the agenda for comments and inquiries from the public. Members of the public may comment or ask questions of presenters via the email address livequestions@fcc.gov.

The meeting site is fully accessible to people using wheelchairs or other mobility aids. Sign language interpreters, open captioning, and assistive listening devices will be provided on site. Other reasonable accommodations for people with disabilities are available upon request. Requests for such accommodations or for materials in accessible formats for people with disabilities (Braille, large print, electronic files, audio format) should be submitted via email to: fcc504@fcc.gov or by calling the Consumer and Governmental Affairs Bureau at (202) 418-0530 (voice), (202) 418-0432 (TTY). Such requests should include a detailed description of the accommodation needed and a way for the FCC to contact the requester if more information is needed to fill the request. Requests should be made as early as possible; last minute requests will be accepted but may not be possible to accommodate.

Proposed Agenda: At this meeting, the DAC is expected to receive and consider reports from its subcommittees on Emergency Communications; Video Programming; Technology Transitions; and Relay & Equipment Distribution. The DAC is also expected to receive presentations from Commission staff or others on matters of interest to the Committee.

Federal Communications Commission.
Gregory Haledjian,
Legal Advisor, Consumer and Governmental Affairs Bureau.

[FR Doc. 2018-11627 Filed 5-30-18; 8:45 am]

BILLING CODE 6712-01-P